DEPARTMENT OF ENERGY

Federal Energy Regulatory Commission

[Docket No. RP99-195-003]

Equitrans, L.P.; Notice of Compliance Filing

August 1, 2000.

Take notice that on July 27, 2000, Equitrans, L.P. (Equitrans), tendered for filing proposed tariff sheets designed to reflect the sale by Equitrans to Dominion Transmission Company (Dominion) of its gas processing plants at Copley Run, Lewis County, West Virginia and at West Union, Doddridge County, West Virginia.

Equitrans states that the shippers will be able to contract directly with Dominion or any other gas processing service provider for gas processing service. Equitrans further states that it will agree to collect a default charge of $0.10 per Dth for gas processing services for any shipper transporting gas on the Equitrans' system and processed by Dominion but who has not contracted directly with Dominion. This conduit arrangement is to be in effect for a limited term of up to one year under the tariff sheets tendered herein.

Finally, Equitrans is hereby seeking to collect, without interest, through a surcharge mechanism underrecoveries of $148,164 for gas processing that took place in January through October of 1999 as contemplated under the existing annual adjustment procedures of its tariff and in accordance with the notification of the underrecoveries previously provided by Equitrans in filings made in this proceeding, with a proposed effective date of September 1, 2000.

Any person desiring to protest said filing should file a protest with the Federal Energy Regulatory Commission, 888 First Street, NE., Washington, DC 20426, in accordance with Section 385.211 of the Commission's Rules and Regulations. All such protests must be filed on or before August 8, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-19870 Filed 8-4-00; 8:45 am]

BILLING CODE 6717-01-M